ENVIRONMENTAL PROTECTION AGENCY

40 CFR Parts 52 and 70

[EPA-R07-OAR-2017-0485; FRL-9971-15-Region 7]

Approval of Nebraska's Air Quality Implementation Plan, Operating Permits Program, and 112(l) Program; Revision to Nebraska Administrative Code; Withdrawal of Direct Final Rule

AGENCY: Environmental Protection Agency (EPA).

ACTION: Withdrawal of direct final rule.

SUMMARY: Due to adverse comments, the Environmental Protection Agency (EPA) is withdrawing the direct final rule for “Approval of Nebraska's Air Quality Implementation Plan, Operating Permits Program, and 112(l) Program; Revision to Nebraska Administrative Code,” published in the Federal Register on October 5, 2017. Nebraska's SIP revision revised two chapters, “Definitions” and “Operating Permit Modifications; Reopening for Cause”. Specifically, these revisions incorporated by reference the list of organic compounds exempt from the definition of volatile organic compound (VOC) found in the Code of Federal Regulations. Notification requirements for the operating permit program were amended to be consistent with the Federal operating permit program requirements, and the definition of “solid waste” was revised by the state. However, because the state's definition is inconsistent with the Federal definition, EPA was not approving the definition into the SIP. Finally, the state extended the process of “off-permit changes” to Class 1 operating permits. Additional grammatical and editorial changes were made in this revision.

DATES: The direct final rule published at 82 FR 46420, October 5, 2017, is withdrawn effective November 28, 2017.

FOR FURTHER INFORMATION CONTACT: Greg Crable, Environmental Protection Agency, Air Planning and Development Branch, 11201 Renner Boulevard, Lenexa, Kansas 66219 at (913) 551-7391, or by email at crable.gregory@epa.gov.

SUPPLEMENTARY INFORMATION: Due to adverse comments, EPA is withdrawing the direct final rule to approve revisions to the Nebraska State Implementation Plan (SIP), Operating Permits Program, and 112(l) program; Revision to Nebraska Administrative Code. In the direct final rule published on October 5, 2017, (82 FR 46420), we stated that if we received adverse comment by November 6, 2017, the rule would be withdrawn and not take effect. EPA received adverse comments. EPA will address the comments in a subsequent final action based upon the proposed action also published on October 5, 2017 (82 FR 46453). EPA will not institute a second comment period on this action.

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Environmental protection, Administrative practice and procedure, Air pollution control, Intergovernmental relations, Operating permits, Reporting and recordkeeping requirements.

Dated: November 16, 2017.
James B. Gulliford,
Regional Administrator, Region 7.

Accordingly, the direct final rule published on October 5, 2017 (82 FR 46420), is withdrawn effective November 28, 2017.

[FR Doc. 2017-25576 Filed 11-27-17; 8:45 am]

BILLING CODE 6560-50-P